NUCLEAR REGULATORY COMMISSION

Advisory Committee on Reactor Safeguards (ACRS)

2025 Procedures for Meetings

Background

This notice describes procedures to be followed with respect to meetings conducted by the U.S. Nuclear Regulatory Commission's (NRC's) Advisory Committee on Reactor Safeguards (ACRS) pursuant to the Federal Advisory Committee Act (FACA). These procedures are set forth so that they may be incorporated by reference in future notices for individual meetings.

The ACRS is a statutory advisory Committee established by Congress to review and report on nuclear safety matters and applications for the licensing of nuclear facilities. The Committee's reports become a part of the public record.

The ACRS meetings are conducted in accordance with FACA as described below for Full Committee and Subcommittee meetings; they are normally open to the public and provide opportunities for oral or written statements from members of the public to be considered as part of the Committee's information gathering process. A means for the public to access the meetings virtually will be provided as described below. ACRS reviews do not normally encompass matters pertaining to environmental impacts other than those related to radiological safety.

The ACRS meetings are not adjudicatory hearings such as those conducted by the NRC's Atomic Safety and Licensing Board Panel as part of the Commission's licensing process.

General Rules Regarding ACRS Full Committee Meetings

An agenda will be published in the Federal Register and on the NRC and ACRS public websites for each Full Committee meeting. There may be a need to make changes to the agenda to facilitate the conduct of the meeting. The Chairman of the Committee is empowered to conduct the meeting in a manner that, in their judgment, will facilitate the orderly conduct of business, including making provisions to continue the discussion of matters not completed on the scheduled day on another day of the same meeting. Persons planning to attend the meeting may contact the Designated Federal Officer (DFO) specified in the Federal Register notice prior to the meeting to be advised of any changes to the agenda that may have occurred.

The following requirements shall apply to public participation in ACRS Full Committee meetings:

(a) Persons who wish to submit comments for the record regarding the agenda items may do so by sending via email to the DFO or by transmitting a readily reproducible copy addressed to the DFO specified in the Federal Register notice, care of the Advisory Committee on Reactor Safeguards, U.S. Nuclear Regulatory Commission, Washington, DC 20555-0001. Email is preferred. Comments should be limited to items being considered by the Committee. In order to ensure that the comments can be considered by the Committee prior to the meeting, the comments should be submitted to the DFO 5 days prior to the meeting to allow time for reproduction and distribution.

(b) Persons desiring to make oral statements at the meeting should make a request to do so to the DFO; if possible, the request should be made 5 days before the meeting, identifying the topic(s) on which oral statements will be made and the amount of time needed for presentation so that orderly arrangements can be made. The Committee will hear oral statements on topics being reviewed at an appropriate time during the meeting as scheduled by the Chairman.

(c) Information regarding topics to be discussed, changes to the agenda, whether the meeting has been canceled or rescheduled, and the time allotted to present oral statements can be obtained by contacting the DFO.

(d) Audio and visual recordings of the meeting will be permitted at the discretion of the Chairman and in accordance with NRC procedures and policies, and subject to the condition that recording will not interfere with the conduct of the meeting. The DFO must be notified at least 5 working days prior to the meeting and will authorize the recording of the meeting after consultation with the Chairman. The recording will be restricted as necessary to protect proprietary or privileged information that may be in documents, folders, etc., in the meeting room. Recordings will be permitted only during those portions of the meeting that are open to the public.

(e) A transcript will be kept for certain open portions of the meeting and will be available on the NRC and ACRS public websites and in the NRC Public Document Room (PDR), One White Flint North, Room O-1F21, 11555 Rockville Pike, Rockville, Maryland 20852-2738. ACRS meeting agendas, transcripts, letter reports, and certified minutes are available (1) on the ACRS public website, (2) at pdr@nrc.gov, or by calling the PDR at 1-800-397-4209, or (3) from Agencywide Documents Access and Management System (ADAMS) which is accessible from the NRC website at http://www.nrc.gov/reading-rm/adams.html or http://www.nrc.gov/reading-rm/doc-collections/ACRS/agenda/.

(f) Virtual attendance opportunities will be made available to public attendees for observing open sessions of ACRS meetings. The relevant information will be included in the agenda on the NRC and ACRS public websites and may be obtained from the cognizant DFO.

ACRS Subcommittee Meetings

Subcommittee meetings are held to conduct preparatory activities and work that will be the subject of deliberations at a Full Committee meeting. In accordance with FACA, the agency is not required to apply the FACA requirements to meetings conducted by the Subcommittees of the NRC Advisory Committees if the Subcommittee's recommendations would be independently reviewed by its parent Committee (which is always the case). Advice provided to the Commission by the ACRS will only be approved in a Full Committee meeting.

In an effort to maintain transparency of Subcommittee activities, the ACRS has chosen to conduct its Subcommittee meetings in accordance with the procedures noted above for ACRS Full Committee meetings, as appropriate and with the exception noted below, to facilitate public participation, and to provide a forum for stakeholders to express their views on regulatory matters being considered by the ACRS. One specific exception is that for Subcommittee meetings, rather than publish an agenda in the Federal Register 15 calendar days prior to the meeting, the ACRS will publish agendas of Subcommittee meetings on the NRC and ACRS public meeting websites 10 calendar days prior to the meeting. The NRC and ACRS public meeting websites may be found at www.nrc.gov/pmns/mtg and www.nrc.gov/reading-rm/doc-collections/acrs/agenda. Using the procedures mentioned above for Full Committee meetings, members of the public who desire to provide written or oral input to the Subcommittee may do so by contacting the DFO.

Special Provisions for Closing ACRS Meetings

Under 5 U.S.C. 552b, portions of ACRS meetings may be closed to the public for the purpose of discussing matters involving classified, proprietary, personnel, or otherwise sensitive information. When a portion of an ACRS meeting is closed, the agenda will identify the portions of the meeting that will be closed. With regard to discussions involving proprietary information, persons with agreements permitting access to such information may attend those portions of the ACRS meetings where this material is being discussed upon confirmation that such agreements are effective and related to the material being discussed. The owner of the proprietary information will be consulted prior to the start of the meeting regarding who may observe such discussions.

With respect to proprietary-information agreements, the DFO should be informed of such an agreement at least 5 working days prior to the meeting so that it can be confirmed, and a determination can be made regarding the applicability of the agreement to the material that will be discussed during the meeting. The minimum information provided should include information regarding the date of the agreement, the scope of material included in the agreement, the project or projects involved, and the names and titles of the persons signing the agreement. Additional information may be requested to identify the specific agreement involved. A copy of the executed agreement should be provided to the DFO prior to the beginning of the meeting for admittance to the closed session.

In addition, sessions with ACRS member attendance may not be open to the public for the purposes of training, conduct of retreats, international conferences, or other activities that do not involve matters about which the Committee intends to deliberate for the purpose of providing advice to the Commission.

Dated: April 24, 2025.
For the Nuclear Regulatory Commission.
Russell E. Chazell,
Federal Advisory Committee Management Officer, Office of the Secretary.

[FR Doc. 2025-07358 Filed 4-28-25; 8:45 am]

BILLING CODE 7590-01-P